DEPARTMENT OF ENERGY

Federal Energy Regulatory Commission

Combined Notice of Filings

Take notice that the Commission has received the following Natural Gas Pipeline Rate and Refund Report filings:

Filings Instituting Proceedings

Docket Numbers: PR24-79-000.

Applicants: Atmos Energy Corporation, Kentucky/Mid-States Division (Tennessee).

Description: § 284.123(g) Rate Filing: Re-Filed Baseline and Updated Rates to be effective 6/27/2024.

Filed Date: 6/27/24.

Accession Number: 20240627-5176.

Comment Date: 5 p.m. ET 7/18/24.

§ 284.123(g) Protest: 5 p.m. ET 8/26/24.

Docket Numbers: PR24-80-000.

Applicants: Atmos Energy Corporation.

Description: Tariff Amendment: Notice of Cancellation of Statement of Operating Conditions to be effective 6/28/2024.

Filed Date: 6/27/24.

Accession Number: 20240627-5214.

Comment Date: 5 p.m. ET 7/18/24.

§ 284.123(g) Protest: 5 p.m. ET 8/26/24.

Docket Numbers: PR24-81-000.

Applicants: Columbia Gas of Ohio, Inc.

Description: § 284.123 Rate Filing: COH SOC Rates effective May 30 2024 to be effective 5/30/2024.

Filed Date: 6/27/24.

Accession Number: 20240627-5238.

Comment Date: 5 p.m. ET 7/18/24.

Docket Numbers: RP24-287-000.

Applicants: Northern Border Pipeline Company.

Description: Motion Filing: NBPL Rate Case—610 Motion to Place Suspended Records Into Effect July 1, 2024 to be effective 7/1/2024.

Filed Date: 6/28/24.

Accession Number: 20240628-5095.

Comment Date: 5 p.m. ET 7/10/24.

Docket Numbers: RP24-850-000.

Applicants: Tennessee Gas Pipeline Company, L.L.C.

Description: § 4(d) Rate Filing: Volume No. 2—Venture Global Plaquemines LNG, LLC to be effective 7/1/2024.

Filed Date: 6/27/24.

Accession Number: 20240627-5225.

Comment Date: 5 p.m. ET 7/9/24.

Docket Numbers: RP24-851-000.

Applicants: MountainWest Overthrust Pipeline, LLC.

Description: § 4(d) Rate Filing: MWOP Operational Gas Sales and Purchases to be effective 8/1/2024.

Filed Date: 6/28/24.

Accession Number: 20240628-5031.

Comment Date: 5 p.m. ET 7/10/24.

Docket Numbers: RP24-852-000.

Applicants: El Paso Natural Gas Company, L.L.C.

Description: § 4(d) Rate Filing: Negotiated Rate Agreements Update (Hartree 614700 615843 610670 July 2024) to be effective 7/1/2024.

Filed Date: 6/28/24.

Accession Number: 20240628-5070.

Comment Date: 5 p.m. ET 7/10/24.

Docket Numbers: RP24-853-000.

Applicants:Rockies Express Pipeline LLC.

Description: § 4(d) Rate Filing: REX 2024-06-28 Negotiated Rate Agreements to be effective 7/1/2024.

Filed Date: 6/28/24.

Accession Number: 20240628-5081.

Comment Date:5 p.m. ET 7/10/24.

Docket Numbers: RP24-854-000.

Applicants: Wyoming Interstate Company, L.L.C.

Description: § 4(d) Rate Filing: Negotiated Rate Agreement Update (CLR TSA) to be effective 8/1/2024.

Filed Date: 6/28/24.

Accession Number: 20240628-5089.

Comment Date: 5 p.m. ET 7/10/24.

Docket Numbers: RP24-856-000.

Applicants: Natural Gas Pipeline Company of America LLC.

Description: § 4(d) Rate Filing: Amendment to Negotiated Rate Agreement—ConocoPhillips Company to be effective 7/1/2024.

Filed Date: 6/28/24.

Accession Number: 20240628-5139.

Comment Date: 5 p.m. ET 7/10/24.

Docket Numbers: RP24-857-000.

Applicants: Nautilus Pipeline Company, L.L.C.

Description: § 4(d) Rate Filing: Negotiated Rates—Ridgewood KMS Holdings to be effective 7/1/2024.

Filed Date: 6/28/24.

Accession Number: 20240628-5142.

Comment Date: 5 p.m. ET 7/10/24.

Docket Numbers: RP24-858-000.

Applicants: Equitrans, L.P.

Description: § 4(d) Rate Filing: Permanent Capacity Release—7/1/2024 to be effective 7/1/2024.

Filed Date: 6/28/24.

Accession Number: 20240628-5157.

Comment Date: 5 p.m. ET 7/10/24.

Docket Numbers: RP24-860-000.

Applicants: Transcontinental Gas Pipe Line Company, LLC.

Description: § 4(d) Rate Filing: Non-Conforming—REA Project In-Service to be effective 7/30/2024.

Filed Date: 6/28/24.

Accession Number: 20240628-5169.

Comment Date: 5 p.m. ET 7/10/24.

Docket Numbers: RP24-861-000.

Applicants: Mountain Valley Pipeline, LLC.

Description: § 4(d) Rate Filing: Permanent Capacity Release—7/1/2024 to be effective 7/1/2024.

Filed Date: 6/28/24.

Accession Number: 20240628-5176.

Comment Date: 5 p.m. ET 7/10/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: PR24-69-001.

Applicants: Intermountain Gas Company.

Description: § 284.123 Rate Filing: Amendment to Revised Statement of Operating Conditions to be effective 6/1/2024.

Filed Date: 6/28/24.

Accession Number: 20240628-5035.

Comment Date: 5 p.m. ET 7/12/24.

Docket Numbers: RP22-501-007.

Applicants: ANR Pipeline Company.

Description: Compliance filing: ANR Rate Case Motion to Place Period 2 Settlement Rates Into Effect to be effective 8/1/2024.

Filed Date: 6/28/24.

Accession Number: 20240628-5062.

Comment Date: 5 p.m. ET 7/10/24.

Docket Numbers: RP24-287-002.

Applicants: Northern Border Pipeline Company.

Description: Compliance filing: NBPL Rate Case—580 Compliance to Place Rates Into Effect to be effective 7/1/2024.

Filed Date: 6/28/24.

Accession Number: 20240628-5102.

Comment Date: 5 p.m. ET 7/10/24.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 28, 2024.
Debbie-Anne A. Reese,
Acting Secretary.

[FR Doc. 2024-14779 Filed 7-5-24; 8:45 am]

BILLING CODE 6717-01-P